DEPARTMENT OF AGRICULTURE

Natural Resources Conservation Service

Notice of Proposed Changes to Section IV of the Field Office Technical Guide (FOTG) of the Natural Resources Conservation Service in Mississippi

AGENCY: Natural Resources Conservation Service (NRCS), USDA.

ACTION: Notice of availability of proposed changes in Section IV of the FOTG of the NRCS in Mississippi for review and comment.

SUMMARY: It is the intention of NRCS in Mississippi to issue twelve (12) revised conservation practice standards in Section IV of the FOTG. The revised standards are; Aquaculture Ponds (Code 397), Bedding (Code 310), Dike (Code 356), Irrigation Canal or Lateral (Code 320), Irrigation Field Ditch (Code 388), Irrigation Regulating Reservoir (Code 552), Irrigation Storage Reservoir (Code 436), Irrigation System, Surface and Subsurface (Code 443), Pumping Plant (Code 533), Structure for Water Control (Code 587), Surface Drainage, Field Ditch (Code 607), and Watering Facility (Code 614).

DATES: Comments will be received for a 30-day period commencing with this date of publication.

ADDRESSES: Address all requests and comments to Homer L. Wilkes, State Conservationist, Natural Resources Conservation Service (NRCS), Suite 1321 McCoy Federal Building, 100 West Capitol Street, Jackson, Mississippi 39269. Copies of the standards will be made available upon written request.

SUPPLEMENTARY INFORMATION: Section 343 of the Federal Agriculture Improvement and Reform Act of 1996 states that revisions made after enactment of the law, to NRCS state technical guides used to carry out highly erodible land and wetland provisions of the law, shall be made available for public review and comment. For the next 30 days, the NRCS in Mississippi will receive comments relative to the proposed changes. Following that period, a determination will be made by the NRCS in Mississippi regarding disposition of comments received and a final determination of changes will be made.

Dated: January 29, 2004.
Homer L. Wilkes,
State Conservationist, Jackson, MS.

[FR Doc. 04-3456 Filed 2-17-04; 8:45 am]

BILLING CODE 3410-16-P